DEPARTMENT OF TRANSPORTATION

National Highway Traffic Safety Administration

[Docket No. NHTSA-2022-0114; Notice 1]

Winnebago Industries, Inc., Receipt of Petition for Decision of Inconsequential Noncompliance

AGENCY: National Highway Traffic Safety Administration (NHTSA), Department of Transportation (DOT).

ACTION: Receipt of petition.

SUMMARY: Winnebago Industries, Inc., (Winnebago), has determined that certain model year (MY) 2013-2023 Winnebago motorhomes do not fully comply with Federal Motor Vehicle Safety Standard (FMVSS) No. 108, Lamps, Reflective Devices, and Associated Equipment. Winnebago filed an original noncompliance report dated November 11, 2022, and amended the report on December 2, 2022, and May 17, 2023. Winnebago petitioned NHTSA on December 2, 2022, and amended the petition on May 17, 2023, for a decision that the subject noncompliance is inconsequential as it relates to motor vehicle safety. This document announces receipt of Winnebago's petition.

DATES: Send comments on or before August 31, 2023.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Leroy Angeles, Office of Vehicle Safety Compliance, NHTSA, (202) 366-5304.

SUPPLEMENTARY INFORMATION:

I. Overview: Winnebago determined that certain MY 2013-2023 Winnebago motorhomes do not fully comply with paragraph S6.4.1 and Table IV-a of FMVSS No. 108, Lamps, Reflective Devices, and Associated Equipment (49 CFR 571.108).

Winnebago filed an original noncompliance report dated November 11, 2022, and amended the report on December 2, 2022, and May 17, 2023, pursuant to 49 CFR part 573, Defect and Noncompliance Responsibility and Reports. Winnebago petitioned NHTSA on December 2, 2022, and amended its petition on May 17, 2023, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of Winnebago's petition is published under 49 U.S.C. 30118 and 30120 and does not represent any agency decision or another exercise of judgment concerning the merits of the petition.

II. Vehicles Involved: Winnebago reported that 13,126 of the following motorhomes, manufactured between April 5, 2012, and November 4, 2022, are potentially involved:

• 2015-2021 Winnebago Vista, Sunstar

• 2013-2019 Winnebago Horizon

• 2014-2023 Winnebago Forza

• 2018-2021 Winnebago Intent

• 2015-2016 Winnebago Brave

• 2015-2016 Itasca Tribute

III. Noncompliance: Winnebago explains that the subject motorhomes are equipped with turn signal lamps that do not meet the luminous lens area requirements specified by S6.4.1 and Table IV-a of FMVSS No. 108. Specifically, the luminous lens area of the turn signals equipped in the subject vehicles is 6,361 square millimeters, thus, 1,139 square millimeters smaller than required by the standard.

IV. Rule Requirements: Paragraph S6.4.1 and Table IV-a of FMVSS No. 108 includes the requirements relevant to this petition. Each turn signal lamp, stop lamp, high-mounted stop lamp, and school bus signal lamp must meet the applicable effective projected luminous lens area requirement specified in Tables IV-a, IV-b, and IV-c of FMVSS No. 108.

V. Summary of Winnebago's Petition: The following views and arguments presented in this section, “V. Summary of Winnebago's Petition,” are the views and arguments provided by Winnebago. They have not been evaluated by the Agency and do not reflect the views of the Agency. Winnebago describes the subject noncompliance and contends that the noncompliance is inconsequential as it relates to motor vehicle safety.

Winnebago says that NHTSA has previously explained that the purpose of FMVSS No. 108 is to reduce traffic accidents by, inter alia, “enhancing the conspicuity of motor vehicles on the public roads so that their presence is perceived and their signals understood, both in daylight and in darkness or other conditions of reduced visibility.” Winnebago further adds that in a 1990 final rule notice that increased the minimum lens area for wide vehicles from 8 square inches (i.e., 5,161.28 sq mm) to 12 square inches (i.e., 7,741 sq mm), NHTSA explained that the increase in lens area is necessary because wide vehicles “are susceptible to build up of grime” and “an increase in lens area would enhance vehicle conspicuity and contribute to safety.”

Winnebago says that around July 2022, it was informed by a lamp supplier that there were concerns about the compliance of turn signals installed in certain Winnebago vehicles. Specifically, with the “minimum effective projected luminous area requirements of FMVSS No. 108.” Winnebago says they investigated the turn signals in the subject vehicles and confirmed that the “effective projected luminous lens area” is 6,361 square millimeters and thus, approximately 1,139 square millimeters smaller than the required minimum lens area.

Winnebago says that other than the size of the effective projected luminous lens area for the turn signals in the subject vehicles, the turn signals are otherwise fully compliant with all applicable performance requirements. Winnebago states that the turn signals at issue “have been in use for more than 15 years” and “is not aware of any crashes, injuries, customer complaints or field reports in connection with this noncompliance.” Winnebago states its belief that although the turn signal lens area is slightly smaller than the required minimum, they are still “likely to be imperceptible to both vehicle occupants and approaching drivers, and do not have an effect on the conspicuity of the motorhomes on which they are installed.”

Winnebago states its belief that NHTSA increased the required minimum lens area for turn signals in wide vehicles due to the concern of buildup of grime and dirt. Winnebago claims that the turn signals on motorhomes “are generally well maintained by their owners compared to other classes of wide vehicles. Thus, a slightly smaller turn signals would not reasonably result in a buildup of dirt and grime on turn signals . . .”

Winnebago concludes by stating its belief that the subject noncompliance is inconsequential to motor vehicle safety and its petition for relief from providing notice and remedy for the noncompliance be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject motorhomes that Winnebago no longer controlled at the time it determined that the noncompliance existed. However, any decision on this petition does not relieve vehicle distributors and dealers of the prohibitions on the sale, offer for sale, or introduction or delivery for introduction into interstate commerce of the noncompliant motorhomes under their control after Winnebago notified them that the subject noncompliance existed.

(Authority: 49 U.S.C. 30118, 30120: delegations of authority at 49 CFR 1.95 and 501.8)

Otto G. Matheke III,
Director, Office of Vehicle Safety Compliance.

[FR Doc. 2023-16312 Filed 7-31-23; 8:45 am]

BILLING CODE 4910-59-P